ENVIRONMENTAL PROTECTION AGENCY

[EPA-HQ-OAR-2017-0685; FRL-12639-01-OMS]

Agency Information Collection Activities; Submission to the Office of Management and Budget for Review and Approval; Comment Request; NESHAP for Surface Coating of Metal Coil (Renewal)

AGENCY: Environmental Protection Agency (EPA).

ACTION: Notice.

SUMMARY: The Environmental Protection Agency (EPA) has submitted an information collection request (ICR), NESHAP for Surface Coating of Metal Coil (EPA ICR Number 1957.11, OMB Control Number 2060-0487) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2017-0685, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on May 18, 2023 during a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP) for Surface Coating of Metal Coil (40 CFR part 63, subpart SSSS) were promulgated on June 10, 2002, and most recently amended on February 25, 2020. These regulations apply to existing facilities and new facilities that are major sources of hazardous air pollutants (HAP) at which a coil coating line is operated. A coil coating line is a process in which special equipment is used to apply an organic coating to the surface of metal coils; the affected source at each plant site is the collection of all coil coating lines at the site. The provisions of this subpart do not apply to coil coating lines that are part of research or laboratory equipment or coil coating lines on which at least 85 percent of the metal coil coated, based on surface area, is less than 0.15 millimeters (0.006 inches) thick, unless the coating line is controlled by a common control device. New facilities include those that commenced construction or reconstruction after the date of proposal. This information is being collected to assure compliance with 40 CFR part 63, subpart SSSS.

Form Numbers: 5900-0526.

Respondents/affected entities: Facilities engaged in metal coil surface coating.

Respondent's obligation to respond: Mandatory (40 CFR part 63, subpart SSSS).

Estimated number of respondents: 48 (total).

Frequency of response: Initially and semiannually.

Total estimated burden: 16,200 hours (per year). Burden is defined at 5 CFR 1320.03(b).

Total estimated cost: $2,220,000 (per year), which includes $166,000 annualized capital or operation & maintenance costs.

Changes in the Estimates: There is a decrease of 638 hours in the total estimated respondent burden compared with the ICR currently approved by OMB. The previous burden estimate assumed 21 facilities would conduct performance tests in year three of the rulemaking ICR, assumed respondents would incur burden to revise record systems due to the amendments, and to become familiar with the EPA's CEDRI for electronic reporting. This ICR reflects the ongoing burden for sources to comply with periodic testing requirements every five years and assumes respondents will not incur additional burden for revising record systems due to the previous rule amendments or for familiarization with CEDRI.

Courtney Kerwin,
Director, Information Engagement Division.

[FR Doc. 2025-03349 Filed 2-27-25; 8:45 am]

BILLING CODE 6560-50-P